DEPARTMENT OF TRANSPORTATION

Federal Aviation Administration

Aircraft Clamps

AGENCY: Federal Aviation Administration (FAA), DOT.

ACTION: Notice of availability and request for public comment.

SUMMARY: This notice announces the availability of, and requests comment on, a proposed Technical Standard Order (TSO) on aircraft clamps. The TSO prescribes minimum performance standards that aircraft clamps must meet to be identified with the making “TSO-C171.”

DATES: Comments must be received on or before March 28, 2005.

ADDRESSES: Send all comments on this proposed TSO to: Technical Programs and Continued Airworthiness Branch, AIR-120, Aircraft Engineering Division, Aircraft Certification Service, Attn: File No. TSO-C171, Federal Aviation Administration, 800 Independence Avenue, SW., Washington, DC 20591.

You may deliver comments to: Federal Aviation Administration, Room 804, 800 Independence Avenue, SW., Washington, DC 20591.

FOR FURTHER INFORMATION CONTACT: Mr. Lee Nguyen, AIR-120, Room 804, Federal Aviation Administration, 800 Independence Avenue, SW., Washington, DC 20591. Telephone (202) 267-9937.

SUPPLEMENTARY INFORMATION:

Comments Invited

You are invited to comment on the proposed TSO by submitting written Data, views, or arguments to the above address. Comments received may be examined, both before and after the closing date, in room 804 at the above address, weekdays except Federal holidays, between 8:30 a.m. and 4:30 p.m. The Director, Aircraft Certification Service, will consider all comments received on or before the closing date before issuing the final TSO.

Background

Proposed TSO-C171 prescribes the minimum performance standards for aircraft clamps. The TSO references the standard set forth in the manufacturer's part drawing(s), applicable part specification(s) submitted with the clamp manufacturer's application for TSO authorization, and ASTM and SAE standards.

How To Obtain Copies

You can view or download the proposed TSO from its online location at: http://www.airweb.faa.gov/rgl. At this Web page, select “Technical Standard Orders.” At the TSO page, select “Proposed Orders.”

For a paper copy, contact the person listed in FOR FURTHER INFORMATION CONTACT. You can order copies of American Society for Testing and Materials (ASTM) documents from ASTM, 100 Barr Harbor Drive, West Conshohocken, PA 19428-2959. You can order copies of Society of Automotive Engineers (SAE) documents from SAE, 400 Commonwealth Drive, Warrendale, PA 15096-0001.

Issued in Washington, DC, on February 17, 2005.
Susan J.M. Cabler,
Acting Manager, Aircraft Engineering Division, Aircraft Certification Service.

[FR Doc. 05-3606 Filed 2-24-05; 8:45 am]

BILLING CODE 4910-13-M